OFFICE OF PERSONNEL MANAGEMENT

Excepted Service

AGENCY: U.S. Office of Personnel Management (OPM).

ACTION: Notice.

SUMMARY: This notice identifies Schedule A, B, and C appointing authorities applicable to a single agency that were established or revoked from March 1, 2015, to March 31, 2015.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during March 2015.

Schedule B

No Schedule B Authorities to report during March 2015.

Schedule C

The following Schedule C appointing authorities were approved during March 2015.

Agency name | Organization name | Position title | Authorization No. | Effective date
DEPARTMENT OF AGRICULTURE | Farm Service Agency | State Executive Director—California | DA150114 | 3/20/2015
DEPARTMENT OF COMMERCE | Office of the Chief of Staff | Special Assistant | DC150069 | 3/2/2015
| Office of Public Affairs | Senior Press Coordinator | DC150085 | 3/25/2015
DEPARTMENT OF DEFENSE | Office of the Assistant Secretary of Defense (Special Operations/Low Intensity Conflict and Interdependent Capabilities) | Senior Advisor for Atrocity Prevention and Response | DD150071 | 3/12/2015
| Office of the Assistant Secretary of Defense (International Security Affairs) | Special Assistant for Middle East Policy | DD150107 | 3/25/2015
DEPARTMENT OF EDUCATION | Office of Innovation and Improvement | Chief of Staff | DB150055 | 3/6/2015
| Office of Elementary and Secondary Education | Deputy Assistant Secretary for Policy and Programs | DB150062 | 3/24/2015
| Office of Planning, Evaluation and Policy Development | Special Assistant | DB150065 | 3/24/2015
| Office of Innovation and Improvement | Special Assistant | DB150063 | 3/25/2015
| Office for Civil Rights | Chief of Staff | DB150067 | 3/25/2015
DEPARTMENT OF ENERGY | Office of Management | Deputy Director of Scheduling and Advance | DE150040 | 3/2/2015
ENVIRONMENTAL PROTECTION AGENCY | Office of Public Affairs | Deputy Associate Administrator for Public Affairs | EP150032 | 3/18/2015
DEPARTMENT OF HEALTH AND HUMAN SERVICES | Office of the Assistant Secretary for Health | Chief of Staff (2) | DH150074 | 3/12/2015
|  |  | DH150102 | 3/17/2015
| Office of Intergovernmental and External Affairs | Regional Director, Boston, Massachusetts, Region I | DH150106 | 3/24/2015
DEPARTMENT OF HOMELAND SECURITY | Office of the Executive Secretariat | Special Assistant Deputy White House Liaison | DM150088 DM150089 | 3/12/2015 3/12/2015
| Office of the Chief of Staff | White House Liaison | DM150115 | 3/17/2015
| United States Immigration and Customs Enforcement | Congressional Relations Director | DM150116 | 3/20/2015
DEPARTMENT OF HOUSING AND URBAN DEVELOPMENT | Office of the Secretary | Special Assistant Deputy White House Liaison | DU150026 DU150031 | 3/2/2015 3/4/2015
DEPARTMENT OF THE INTERIOR | Secretary's Immediate Office | Director of Scheduling and Advance | DI150057 | 3/12/2015
DEPARTMENT OF JUSTICE | Office of Justice Programs | Chief of Staff and Senior Counsel | DJ150039 | 3/2/2015
DEPARTMENT OF LABOR | Women's Bureau | Policy Advisor | DL150032 | 3/3/2015
| Office of the Solicitor | Senior Counsel | DL150034 | 3/13/2015
| Office of Congressional and Intergovernmental Affairs | Chief of Staff and Senior Counselor | DL150039 | 3/17/2015
|  | Legislative Officer | DL150038 | 3/25/2015
| Occupational Safety and Health Administration | Special Assistant | DL150040 | 3/19/2015
OFFICE OF MANAGEMENT AND BUDGET | Office of the Director National Security Programs | Senior Advisor Confidential Assistant | BO150016 BO150022 | 3/17/2015 3/17/2015
| Office of E-Government and Information Technology | Confidential Assistant | BO150020 | 3/25/2015
| Office of Legislative Affairs | Legislative Analyst | BO150021 | 3/25/2015
SMALL BUSINESS ADMINISTRATION | Office of the Administrator Office of the General Counsel | White House Liaison Deputy General Counsel | SB150019 SB150024 | 3/12/2015 3/26/2015
DEPARTMENT OF STATE | Bureau of Economic and Business Affairs | Special Assistant | DS150034 | 3/2/2015
| Bureau of Public Affairs | Staff Assistant | DS150063 | 3/13/2015
| Bureau of Western Hemisphere Affairs | Foreign Affairs Officer | DS150043 | 3/17/2015
| Office of the Under Secretary for Civilian Security, Democracy, and Human Rights | Staff Assistant | DS150042 | 3/25/2015
DEPARTMENT OF TRANSPORTATION | Office of the Assistant Secretary for Governmental Affairs | Director of State and Local Governmental Affairs | DT150037 | 3/4/2015
DEPARTMENT OF THE TREASURY | Office of the Assistant Secretary (Public Affairs) | Spokesperson | DY150082 | 3/13/2015

The following Schedule C appointing authorities were revoked during March 2015.

Agency name | Organization name | Position title | Authorization No. | Vacate date
DEPARTMENT OF COMMERCE | Office of Public Affairs | Press Assistant | DC140153 | 3/6/2015
| Office of the Under Secretary | Senior Advisor | DC120040 | 3/7/2015
| Immediate Office of the Secretary | Special Assistant | DC140135 | 3/7/2015
| Office of Legislative and Intergovernmental Affairs | Director of Legislative Outreach | DC140154 | 3/20/2015
DEPARTMENT OF EDUCATION | Office of Innovation and Improvement | Special Assistant | DB140118 | 3/7/2015
ENVIRONMENTAL PROTECTION AGENCY | Office of Public Affairs | Press Secretary | EP140018 | 3/21/2015
GENERAL SERVICES ADMINISTRATION | Office of Administrative Services | Chief of Staff | GS130021 | 3/21/2015
DEPARTMENT OF HEALTH AND HUMAN SERVICES | Office of the Assistant Secretary for Public Affairs | Senior Advisor for Strategic Planning | DH130038 | 3/5/2015
| Office of Intergovernmental and External Affairs | Director of Provider Outreach | DH130089 | 3/6/2015
DEPARTMENT OF HOMELAND SECURITY | Office of the Under Secretary for Science and Technology | Special Assistant to the Under Secretary for Science and Technology | DM130110 | 3/7/2015
| Office of the Chief of Staff | Deputy White House Liaison | DM140031 | 3/21/2015
|  | Special Assistant to the White House Liaison | DM140085 | 3/21/2015
DEPARTMENT OF HOUSING AND URBAN DEVELOPMENT | Office of the Secretary | Deputy White House Liaison | DU150006 | 3/1/2015
DEPARTMENT OF THE INTERIOR | Secretary's Immediate Office | Deputy Communications Director | DI120048 | 3/7/2015
DEPARTMENT OF JUSTICE | Office of Justice Programs | Senior Advisor to the Assistant Attorney General | DJ100107 | 3/7/2015
|  | Senior Advisor | DJ140015 | 3/8/2015
| Office of Legislative Affairs | Attorney Advisor | DJ130075 | 3/21/2015
|  | Chief of Staff and Attorney Advisor | DJ130089 | 3/21/2015
DEPARTMENT OF LABOR | Office of the Solicitor | Special Counsel | DL130036 | 3/6/2015
| Office of the Secretary | Special Advisor | DL150012 | 3/6/2015
|  | Policy Advisor | DL120035 | 3/27/2015
| Women's Bureau | Special Assistant | DL100054 | 3/7/2015
| Office of Congressional and Intergovernmental Affairs | Senior Legislative Assistant | DL140049 | 3/20/2015
SMALL BUSINESS ADMINISTRATION | Office of Field Operations | Special Advisor to the Associate Administrator for Field Operations | SB130009 | 3/14/2015
DEPARTMENT OF STATE | Office of the Secretary | Deputy Chief of Staff for Policy | DS130116 | 3/21/2015
DEPARTMENT OF TRANSPORTATION | Office of the Secretary | Director of Scheduling and Advance | DT140041 | 3/7/2015

Authority: 5 U.S.C. 3301 and 3302; E.O. 10577, 3 CFR, 1954-1958 Comp., p. 218.

U.S. Office of Personnel Management.
Katherine Archuleta,
Director.

[FR Doc. 2015-14815 Filed 6-16-15; 8:45 am]

BILLING CODE 6325-39-P